DEPARTMENT OF COMMERCE

International Trade Administration

[A-351-828]

Certain Hot-Rolled Flat-Rolled Carbon Quality Steel Flat Products From Brazil: Notice of Rescission of Antidumping Duty Administrative Review

AGENCY: Import Administration, International Trade Administration, Department of Commerce.

SUMMARY: On April 27, 2010, the U.S. Department of Commerce (the Department) published a notice of initiation of an administrative review of the antidumping duty order on certain hot-rolled flat-rolled carbon quality steel flat products (hot-rolled steel) from Brazil. The review covers four producers/exporters of hot-rolled steel from Brazil, all mandatory respondents. Based on the withdrawal of requests from Nucor Corporation (Nucor) and United States Steel Corporation (U.S. Steel), domestic producers of hot-rolled steel, we are now rescinding this administrative review in full.

DATES: Effective Date: October 25, 2010.

FOR FURTHER INFORMATION CONTACT: David Cordell, Ericka Ukrow, or Angelica Mendoza, AD/CVD Operations, Office 7, Import Administration, International Trade Administration, U.S. Department of Commerce, 14th Street and Constitution Avenue, NW., Washington, DC 20230; telephone: (202) 482-0408, (202) 482-0405, or (202) 482-3019, respectively.

SUPPLEMENTARY INFORMATION:

Background

On March 1, 2010, the Department published in the Federal Register the notice of opportunity to request an administrative review of the antidumping duty order on hot-rolled steel from Brazil for the period March 1, 2009, through February 28, 2010. See Antidumping or Countervailing Duty Order, Finding, or Suspended Investigation; Opportunity To Request Administrative Review, 75 FR 9162 (March 1, 2010). On March 31, 2010, the Department received requests from Nucor and U.S. Steel (collectively, domestic producers), that the Department conduct an administrative review of the antidumping duty order on hot-rolled steel from Brazil. Domestic producers requested that the review cover four producers/exporters of hot-rolled steel from Brazil, namely Usinas Siderurgicas de Minas Gerais S.A.—USIMINAS,¹ Companhia Siderurgica Paulista—Cosipa (hereafter referred to as USIMINAS/COSIPA),² Companhia Siderurgica de Tubarao (CST), and Companhia Siderurgica Nacional (CSN). On April 27, 2010, the Department published in the Federal Register the notice of initiation of this administrative review of hot-rolled steel from Brazil. See Initiation of Antidumping and Countervailing Duty Administrative Reviews and Request for Revocation in Part, 75 FR 22107 (April 27, 2010).

¹ In the initiation notice published on April 27, 2010 (75 FR 22108), the company Usinas Siderurgicas de Minas Gerais S.A. (USIMINAS), was incorrectly initiated as Usiminas Siderurgicas de Minas Gerais S.A. (USIMINAS). The correction of this spelling error was published in the following month's notice of initiation of antidumping and countervailing duty administrative reviews. See Initiation of Antidumping and Countervailing Duty Administrative Reviews, 75 FR 29976 (May 28, 2010).

² In the final determination of the investigation of hot-rolled steel from Brazil, the Department determined that USIMINAS and COSIPA were affiliated parties, and collapsed these entities. See Notice of Final Determination of Sales at Less Than Fair Value; Certain Hot-Rolled Flat-Rolled Carbon Quality Steel Products From Brazil, 64 FR 38756, 38759 (July 19, 1999).

On May 4, 2010, the Department issued its antidumping duty questionnaire to all four mandatory respondents. Also, on May 4, 2010, respondent CSN timely submitted its certificate of no shipments, entries or sales of subject merchandise to the United States during the period of review (POR) March 1, 2009, through February 28, 2010, and requested rescission of its administrative review. CST, on May 17, 2010, filed a timely certification that CST had no shipments, sales or entries to the United States during the POR, and consequently also requested that its review be rescinded. In addition, it claimed that ArcelorMittal Brasil is the successor-in-interest to CST and requested the Department rescind its review. USIMINAS/COSIPA submitted, on May 26, 2010, a certification that it had no sales, shipments or entries of subject merchandise to the United States during the POR.

On June 3, 2010, the Department issued a letter to CST and ArcelorMittal Brasil clarifying that in order to be recognized as the successor-in-interest of CST it has to formally request the Department to conduct a changed circumstances review pursuant to section 751(b) of the Tariff Act of 1930, as amended (the Act), and 19 CFR 351.216 and 351.221(c)(3).

The Department issued a “No Shipment Inquiry” to U.S. Customs and Border Protection (CBP) on June 15, 2010, to confirm that there were no shipments or entries of hot-rolled steel from Brazil produced or exported by USIMINAS/COSIPA, CSN and CST during the POR of the instant administrative review. CBP only responds to the Department's inquiry when CBP finds that there have been shipments or entries of the merchandise in question. CBP did not respond to the Department's inquiry, and no party submitted comments. Based on this information, on July 6, 2010, the Department substantiated USIMINAS/COSIPA's, CST's, and CSN's claims that they did not have any shipments or entries of hot-rolled steel from Brazil during the instant POR. See Memorandum to the File titled, “Usinas Siderurgicas de Minas Gerais S.A. (USIMINAS), Companhia Siderurgica Paulista (Cosipa), Companhia Siderurgica de Tubarao (CST), and Companhia Siderurgica Nacional (CSN)—No Shipments of Certain Hot-Rolled, Flat-Rolled Carbon Quality Steel Flat Products From Brazil Pursuant to U.S. Customs and Border Protection Inquiry” from Ericka Ukrow, International Trade Compliance Analyst, dated July 6, 2010 (CBP Memo).

On July 22, 2010, and July 23, 2010, respectively, Nucor and U.S. Steel timely filed letters withdrawing their requests for review of the four companies for which the Department initiated this review basing their decision on the Department's substantiation of respondents' claims of no shipments or entries of the subject merchandise during the POR. See Letter from Nucor titled, “Certain Hot-Rolled Carbon Steel Flat Products From Brazil: Withdrawal of Request for Administrative Review,” dated July 22, 2010; Letter from U.S. Steel titled, “Certain Hot-Rolled Carbon Steel Flat Products From Brazil,” dated July 23, 2010, citing the Department's CBP memo, dated July 6, 2010.

Period of Review

The POR is March 1, 2009, through February 28, 2010.

Scope of the Order

The products covered by the order are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm, but not exceeding 1250 mm and of a thickness of not less than 4 mm, not in coils and without patterns in relief) of a thickness not less than 4.0 mm is not included within the scope of this order.

Specifically included in this scope are vacuum degassed, fully stabilized (commonly referred to as interstitial-free (IF)) steels, high strength low alloy (HSLA) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum.

Steel products to be included in the scope of this order, regardless of Harmonized Tariff Schedule of the United States (HTSUS) definitions, are products in which: (1) Iron predominates, by weight, over each of the other contained elements; (2) the carbon content is 2 percent or less, by weight; and (3) none of the elements listed below exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this order unless otherwise excluded. The following products, by way of example, are outside and/or specifically excluded from the scope of this order:

—Alloy hot-rolled steel products in which at least one of the chemical elements exceeds those listed above (including, e.g., ASTM specifications A543, A387, A514, A517, and A506).

—SAE/AISI grades of series 2300 and higher.

—Ball bearing steels, as defined in the HTSUS.

—Tool steels, as defined in the HTSUS.

—Silico-manganese (as defined in the HTSUS) or silicon electrical steel with a silicon level exceeding 1.50 percent.

—ASTM specifications A710 and A736.

—USS Abrasion-resistant steels (USS AR 400, USS AR 500).

Hot-rolled steel coil which meets the following chemical, physical and mechanical specifications:

C | Mn | P | S | Si | Cr | Cu | Ni
0.10-0.14% | 0.90% Max | 0.025% Max | 0.005% Max | 0.30-0.50% | 0.50-0.70% | 0.20-0.40% | 0.20% Max.
Width = 44.80 inches maximum; Thickness = 0.063-0.198 inches; Yield Strength = 50,000 ksi minimum; Tensile Strength = 70,000-88,000 psi.

—Hot-rolled steel coil which meets the following chemical, physical and mechanical specifications:

C | Mn | P | S | Si | Cr | Cu | Ni | Mo
0.10-0.16% | 0.70-0.90% | 0.025% Max | 0.006% Max | 0.30-0.50% | 0.50-0.70% | 0.25% Max | 0.20% Max, | 0.21% Max
Width = 44.80 inches maximum; Thickness = 0.350 inches maximum; Yield Strength = 80,000 ksi minimum; Tensile Strength = 105,000 psi Aim.

—Hot-rolled steel coil which meets the following chemical, physical and mechanical specifications:

C | Mn | P | S | Si | Cr | Cu | Ni | V (wt.) | Cb
0.10-0.14% | 1.30-1.80% | 0.025% Max | 0.005% Max | 0.30-0.50% | 0.50-0.70% | 0.20-0.40% | 0.20% Max | 0.10 Max | 0.08% Max.
Width = 44.80 inches maximum; Thickness = 0.350 inches maximum; Yield Strength = 80,000 ksi minimum; Tensile Strength = 105,000 psi Aim.

Hot-rolled steel coil which meets the following chemical, physical and mechanical specifications:

C | Mn | P | S | Si | Cr | Cu | Ni | Nb | Ca | Al
0.15% Max | 1.40% Max | 0.025% Max | 0.010% Max | 0.50% Max | 1.00% Max | 0.50% Max | 0.20% Max | 0.005% Min | Treated | 0.01-0.07%
Width = 39.37 inches; Thickness = 0.181 inches maximum; Yield Strength = 70,000 psi minimum for thicknesses ≤ 0.148 inches and 65,000 psi minimum for thicknesses > 0.148 inches; Tensile Strength = 80,000 psi minimum.

Hot-rolled dual phase steel, phase-hardened, primarily with a ferritic-martensitic microstructure, contains 0.9 percent up to and including 1.5 percent silicon by weight, further characterized by either (i) tensile strength between 540 N/mm² and 640 N/mm² and an elongation percentage ≥ 26 percent for thicknesses of 2 mm and above, or (ii) a tensile strength between 590 N/mm² and 690 N/mm² and an elongation percentage ≥ 25 percent for thicknesses of 2 mm and above.

—Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

—Grade ASTM A570-50 hot-rolled steel sheet in coils or cut lengths, width of 74 inches (nominal, within ASTM tolerances), thickness of 11 gauge (0.119 inch nominal), mill edge and skin passed, with a minimum copper content of 0.20%.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00. Certain hot-rolled flat-rolled carbon-quality steel covered by this order, including: Vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.01.80.

Although the HTSUS subheadings are provided for convenience and Customs purposes, the written description of the merchandise under this order is dispositive.

Rescission of Antidumping Duty Administrative Review

Pursuant to 19 CFR 351.213(d)(1), the Secretary will rescind an administrative review, in whole or in part, if a party that requested a review withdraws the request within 90 days of the date of publication of the notice of initiation of the requested review. Because parties submitted their requests to rescind the administrative review of all four companies within 90 days of the date of publication of the notice of initiation, the Department is rescinding this review in accordance with 19 CFR 351.213(d)(1).

Assessment Instructions

The Department will instruct CBP to assess antidumping duties on all appropriate entries. For companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR § 351.305(a)(3). Timely written notification of the return or destruction of APO materials or conversion to judicial protective order is hereby requested. Failure to comply with the regulations and terms of an APO is a sanctionable violation.

We are issuing and publishing this notice in accordance with sections 751(a)(1) and 777(i)(1) of the Act, and 19 CFR 351.213(d)(4).

Dated: October 19, 2010.
Susan H. Kuhbach,
Acting Deputy Assistant Secretary for Antidumping and Countervailing Duty Operations.

[FR Doc. 2010-26922 Filed 10-22-10; 8:45 am]

BILLING CODE 3510-DS-P